DEPARTMENT OF HOUSING AND URBAN DEVELOPMENT

24 CFR Parts 5 and 200

[Docket No. FR-6160-N-02]

Notice of Continuation of Demonstration To Assess the National Standards for the Physical Inspection of Real Estate and Associated Protocols

AGENCY: Office of the Assistant Secretary for Housing; Office of the Assistant Secretary for Public and Indian Housing, U.S. Department of Housing and Urban Development.

ACTION: Demonstration continuation.

SUMMARY: Through this notification, HUD announces the continuation of the Demonstration to Assess the National Standards for the Physical Inspection of Real Estate and Associated Protocols through April 30, 2023. This demonstration allows HUD to test the NSPIRE standards and protocols as the means for assessing the physical conditions of HUD-assisted and HUD-insured housing. The continuation provides the authority to further evaluate and refine the future state of HUD's physical inspection model.

DATES: The demonstration continuation is effective September 28, 2021.

FOR FURTHER INFORMATION CONTACT: Timothy Weese, NSPIRE Program Manager, Office of Public and Indian Housing, Department of Housing and Urban Development, 550 12th Street SW, Suite 100, Washington, DC 20410-4000, telephone number 202-475-8811 (this is not a toll-free number) or via email to NSPIRE@hud.gov. Persons with hearing or speech impairments may contact the numbers above via TTY by calling the Federal Relay Service at 800-877-8339 (this is a toll-free number).

SUPPLEMENTARY INFORMATION: On August 21, 2019, the U.S. Department of Housing and Urban Development published a document implementing the “Demonstration To Assess the National Standards for the Physical Inspection of Real Estate and Associated Protocols.” (“the 2019 document”).¹ Through this demonstration, HUD is collecting, processing, and evaluating physical inspection data and information, and is improving and refining the NSPIRE model. The NSPIRE model will revise the way that HUD-assisted housing is inspected and evaluated to reduce regulatory burden and improve HUD oversight through a unified assessment of housing quality and a prioritization of resident health and safety.

¹ Originally announced in the Notice of Demonstration To Assess the National Standards for the Physical Inspection of Real Estate and Associated Protocols, 84 FR 43536 (August 21, 2019) https://www.federalregister.gov/documents/2019/08/21/2019-17910/notice-of-demonstration-to-assess-the-national-standards-for-the-physical-inspection-of-real-estate.

HUD has decided to extend this demonstration to assess the improvements and alignment of the inspection protocol. This decision furthers the direction contained in the Joint Explanatory Statement accompanying the Consolidated Appropriations Act of 2016, Public Law 114-113, approved December 18, 2015; the statutory requirements detailed in the Economic Growth and Recovery, Regulatory Relief, and Consumer Protection Act of 2018, Public Law 115-174; ² and the proposed guidance the Department has outlined in the Economic Growth, Regulatory Relief, and Consumer Protection Act: Implementation of National Standards for the Physical Inspection of Real Estate proposed rule.³ All participant and program-specific requirements highlighted in the 2019 document continue to apply, including the extension of the inspection periodicity for participating properties as outlined in section V. HUD extends this demonstration through April 30, 2023. HUD may amend the demonstration dates in response to changes in programmatic and environmental conditions through subsequent Federal Register publications.

² The text of the Economic Growth Act, along with a summary prepared by the Congressional Research Service, can be found at https://www.congress.gov/bill/115th-congress/senate-bill/2155/text.

³ See Economic Growth Regulatory Relief and Consumer Protection Act: Implementation of National Standards for the Physical Inspection of Real Estate (NSPIRE), 86 FR 2582 (January 13, 2021) https://www.federalregister.gov/documents/2021/01/13/2021-00098/economic-growth-regulatory-relief-and-consumer-protection-act-implementation-of-national-standards.

This notification provides operating instructions and procedures in connection with activities under a Federal Register document that has previously been subject to a required environmental review. Accordingly, under § 50.19(c)(4), this notification is categorically excluded from environmental review under the National Environmental Policy Act (42 U.S.C. 4321, et seq.)

Dominique G. Blom,
General Deputy Assistant Secretary for Public and Indian Housing.

[FR Doc. 2021-21049 Filed 9-27-21; 8:45 am]

BILLING CODE 4210-67-P